DEPARTMENT OF TRANSPORTATION

Federal Aviation Administration

14 CFR Part 71

[Docket No. FAA-2017-0986; Airspace Docket No. 17-ANM-16]

Proposed Amendment of Class D and Class E Airspace; Lewiston, ID

AGENCY: Federal Aviation Administration (FAA), DOT.

ACTION: Notice of proposed rulemaking (NPRM).

SUMMARY: This action proposes to amend controlled airspace at Lewiston-Nez Perce County Airport, Lewiston, ID, by enlarging Class D airspace, and Class E surface airspace, and reducing Class E airspace designated as an extension, and Class E airspace extending upward from 700 feet above the surface. Also, this action would remove the part-time Notice to Airmen (NOTAM) status from Class E airspace designated as an extension. Additionally, an editorial change would be made to the legal descriptions replacing “Airport/Facility Directory” with the term “Chart Supplement”. This action would enhance safety and management of instrument flight rules (IFR) operations at the airport.

DATES: Comments must be received on or before January 22, 2018.

ADDRESSES: Send comments on this proposal to the U.S. Department of Transportation, Docket Operations, 1200 New Jersey Avenue SE., West Building, Ground Floor, Room W12-140, Washington, DC 20590; telephone: 1(800) 647-5527, or (202) 366-9826. You must identify FAA Docket No. FAA-2017-0986; Airspace Docket No. 17-ANM-16, at the beginning of your comments. You may also submit comments through the Internet at http://www.regulations.gov.

FAA Order 7400.11B, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to https://www.archives.gov/federal-register/cfr/ibr-locations.html.

FAA Order 7400.11, Airspace Designations and Reporting Points, is published yearly and effective on September 15.

FOR FURTHER INFORMATION CONTACT: Tom Clark, Federal Aviation Administration, Operations Support Group, Western Service Center, 1601 Lind Avenue SW., Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class D and Class E airspace at Lewiston-Nez Perce County Airport, Lewiston, ID, in support of IFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (Docket No. FAA-2017-0986; Airspace Docket No. 17-ANM-16) and be submitted in triplicate to DOT Docket Operations (see ADDRESSES section for address and phone number).

Persons wishing the FAA to acknowledge receipt of their comments on this notice must submit with those comments a self-addressed, stamped postcard on which the following statement is made: “Comments to Docket No. FAA-2017-0986/Airspace Docket No. 17-ANM-16.” The postcard will be date/time stamped and returned to the commenter.

All communications received on or before the specified closing date for comments will be considered before taking action on the proposed rule. The proposal contained in this notice may be changed in light of the comments received. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined between 8:00 a.m. and 4:30 p.m., Monday through Friday, except federal holidays, at the Northwest Mountain Regional Office of the Federal Aviation Administration, Air Traffic Organization, Western Service Center, Operations Support Group, 1601 Lind Avenue SW., Renton, WA 98057.

Availability and Summary of Documents for Incorporation by Reference

This document proposes to amend FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Proposal

The FAA is proposing an amendment to Title 14 Code of Federal Regulations (14 CFR) part 71 by amending Class D airspace, Class E airspace designated as a surface area, Class E airspace designated as an extension, and Class E airspace extending upward from 700 feet above the surface at Lewiston-Nez Perce County Airport, Lewiston, ID. This airspace redesign is necessary for the safety and management of instrument flight rules operations at the airport.

This proposal would amend Class D and Class E surface area airspace by increasing each area to a 4.3-mile radius of the airport (from the 4.1-mile radius) from the airport 290° bearing clockwise to the airport 066° bearing; and within a 5.1-mile radius of the airport (from the 4.1-mile radius) from the airport 066° bearing clockwise to the airport 115° bearing; and within a 6.6-mile radius of the airport (from the 4.1-mile radius) from the airport 115° bearing clockwise to the airport 164° bearing; and within a 4.3-mile radius of the airport (from the 4.1-mile radius) from the airport 164° bearing clockwise to the airport 230° bearing; and within a 6.6-mile radius of the airport (from the 4.1-mile radius) from the airport 230° bearing clockwise to the airport 290° bearing. Also, the class D airspace extending upward from the surface would be reduced up to and including 2,700 feet MSL (from 3,900 feet).

Class E airspace designated as an extension would be modified to within 1.0 mile each side of the 100° bearing from the airport extending from the 5.1-mile radius of the airport to 7.9 miles east of the airport (from 2.7 miles each side of the Lewiston-Nez Perce ILS localizer course extending from the 4.1-mile radius of the airport to 14 miles east), and within 1.0 mile each side of the 313° bearing from the airport extending from the airport 4.3-mile radius to 6.1 miles northwest of the airport (from 3.5 miles each side of the Nez Perce VOR/DME 266° radial extending from the 4.1-mile radius of the airport to 13.1 miles west of the airport). Also, the part-time Notice to Airmen (NOTAM) status would be removed.

Class E airspace extending upward from 700 feet above the surface would be modified to within a 6.3-mile radius of the airport, and within 8.5 miles north and 4.3 miles south of the airport 099° and 279° bearings extending to 27.8 miles east and 22.5 miles west of the airport (from an irregularly shaped polygon generally extending to 19 miles northeast, 24 miles east, 19 miles southeast, and 25 miles west).

Additionally, this action would replace the term “Airport/Facility Directory” with the term “Chart Supplement” in the Class D and Class E surface airspace.

Class D and Class E airspace designations are published in paragraph 5000, 6002, 6004, and 6005, respectively, of FAA Order 7400.11B, dated August 3, 2017 and effective September 15, 2017, which is incorporated by reference in 14 CFR 71.1. The Class D and Class E airspace designations listed in this document will be published subsequently in the Order.

Regulatory Notices and Analyses

The FAA has determined that this proposed regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

ANM ID D Lewiston, ID [Amended]

Lewiston-Nez Perce County Airport, ID

(Lat. 46°22′28″ N., long. 117°00′55″ W.)

That airspace extending upward from the surface to and including 2,700 feet MSL within a 4.3-mile radius from the Lewiston-Nez Perce County Airport clockwise from the airport 290° bearing to the 066° bearing, and within a 5.1-mile radius of the airport from the 066° bearing to the airport 115° bearing and within a 6.6-mile radius of the airport from the 115° bearing to the airport 164° bearing, and within a 4.3-mile radius of the airport from the airport 164° bearing to the airport 230° bearing, and within a 6.6-mile radius of the airport from the 230° bearing to the airport 290° bearing. This Class D airspace area is effective during the specific dates and times established in advance by a Notice to Airmen. The effective date and time will thereafter be continuously published in the Chart Supplement.

ANM ID E2 Lewiston, ID [Amended]

Lewiston-Nez Perce County Airport, ID

(Lat. 46°22′28″ N., long. 117°00′55″ W.)

That airspace extending upward from the surface within a 4.3-mile radius from the Lewiston-Nez Perce County Airport clockwise from the airport 290° bearing to the 066° bearing, and within a 5.1-mile radius of the airport from the 066° bearing to the airport 115° bearing and within a 6.6-mile radius of the airport from the 115° bearing to the airport 164° bearing, and within a 4.3-mile radius of the airport from the airport 164° bearing to the airport 230° bearing, and within a 6.6-mile radius of the airport from the 230° bearing to the airport 290° bearing. This Class E airspace area is effective during the specific dates and times established in advance by a Notice to Airmen. The effective date and time will thereafter be continuously published in the Chart Supplement.

ANM ID E4 Lewiston, ID [Amended]

Lewiston-Nez Perce County Airport, ID

(Lat. 46°22′28″ N., long. 117°00′55″ W.)

That airspace within one mile each side of the 100° bearing from the Lewiston-Nez Perce County Airport extending from the airport 5.1-mile radius to 7.9 miles east of the airport, and within 1.0 mile each side of the 313° bearing from the airport extending from the airport 4.3-mile radius to 6.1 miles northwest of the airport.

ANM ID E5 Lewiston, ID [Amended]

Lewiston-Nez Perce County Airport, ID

(Lat. 46°22′28″ N., long. 117°00′55″ W.)

That airspace upward from 700 feet above the surface within a 6.3-mile radius of Lewiston-Nez Perce County Airport, and within 8.5 miles north and 4.3 miles south of the airport 099° and 279° bearings extending to 27.8 miles east and 22.5 miles west of the airport; that airspace extending upward from 1,200 feet above the surface within a 62-mile radius of the Lewiston-Nez Perce County Airport, and within 24 miles each side of the 056° bearing from the airport extending from the 62-mile radius to 92 miles northeast of the airport.

Issued in Seattle, Washington, on November 21, 2017.
Brian J. Johnson,
Acting Group Manager, Operations Support Group, Western Service Center.

[FR Doc. 2017-26206 Filed 12-5-17; 8:45 am]

BILLING CODE 4910-13-P